DEPARTMENT OF TRANSPORTATION

Surface Transportation Board

Notice and Request for Comments

AGENCY: Surface Transportation Board, DOT.

ACTION: 30-day notice of request for approval: Application to Open a Billing Account.

SUMMARY: As required by the Paperwork Reduction Act of 1995, 44 U.S.C. 3501-3519 (PRA), the Surface Transportation Board (STB or Board) gives notice that it has submitted a request to the Office of Management and Budget (OMB) for an extension of approval with revision of a currently approved collection: Application to Open a Billing Account. The revision consists of a reduction in burden hours due to the agency's revised estimate of the number of annual respondents. The Board previously published a notice about this collection in the Federal Register on September 30, 2011, at 76 FR 60,964. That notice allowed for a 60-day public review and comment period. No comments were received.

The application to open a billing account is described in detail below. Comments may now be submitted to OMB concerning: (1) The accuracy of the Board's burden estimates; (2) ways to enhance the quality, utility, and clarity of the information collected; (3) ways to minimize the burden of the collection of information on the respondents, including the use of automated collection techniques or other forms of information technology, when appropriate; and (4) whether this collection of information is necessary for the proper performance of the functions of the Board, including whether the collection has practical utility.

Description of Collection

Title: Application to Open a Billing Account.

OMB Control Number: 2140-0006.

STB Form Number: STB Form 1032.

Type of Review: Revision of a currently approved collection.

Respondents: Rail carriers, shippers, and others doing business before the STB.

Number of Respondents: 5.

Estimated Time per Response: Less than .08 hours, based on actual survey of respondents.

Frequency: One time per respondent.

Total Burden Hours (annually including all respondents): Less than 0.4 hours.

Total “Non-hour Burden” Cost: No “non-hour cost” burdens associated with this collection have been identified.

Needs and Uses: The Board is, by statute, responsible for the economic regulation of freight rail carriers and certain other carriers operating in interstate commerce. The form for which this approval is sought is submitted by persons doing business before the Board who wish to open an account with the Board to facilitate their payment of filing fees; fees for the search, review, copying, and certification of records; and fees for other services rendered by the Board. An account holder is billed on a monthly basis for payment of accumulated fees. Data provided is also used for debt collection activities. The application form requests information as required by OMB and U.S. Department of the Treasury regulations for the collection of fees. This information is not duplicated by any other agency. In accordance with the Privacy Act, 5 U.S.C. 552a, all taxpayer identification and social security numbers are secured and used only for credit management and debt collection activities.

DATES: Comments on this information collection should be submitted by January 30, 2012.

ADDRESSES: Written comments should be identified as “Paperwork Reduction Act Comments, Surface Transportation Board, Application to Open a Billing Account.” These comments should be directed to the Office of Management and Budget, Office of Information and Regulatory Affairs, Attention: Patrick Fuchs, Surface Transportation Board Desk Officer, by fax at (202) 395-5167; by mail at Room 10235, 725 17th Street NW., Washington, DC 20500; or by email at OIRA_SUBMISSION@OMB.EOP.GOV.

For Further Information or To Obtain a Copy of the STB Form, Contact: Anthony Jacobik, Jr., (202) 245-0346. Federal Information Relay Service (FIRS) for the hearing impaired: (800) 877-8339.

SUPPLEMENTARY INFORMATION: Under the PRA, a Federal agency conducting or sponsoring a collection of information must display a currently valid OMB control number. A collection of information, which is defined in 44 U.S.C. 3502(3) and 5 CFR 1320.3(c), includes agency requirements that persons submit reports, keep records, or provide information to the agency, third parties, or the public. Under § 3506(b) of the PRA, Federal agencies are required to provide, concurrent with an agency's submitting a collection to OMB for approval, a 30-day notice and comment period, through publication in the Federal Register, concerning each proposed collection of information, including each proposed extension of an existing collection of information.

Dated: December 23, 2011.
Jeffrey Herzig,
Clearance Clerk.

[FR Doc. 2011-33526 Filed 12-29-11; 8:45 am]

BILLING CODE 4915-01-P